DEPARTMENT OF HEALTH AND HUMAN SERVICES

Administration for Children and Families

[CFDA Number: 93.568]

Reallotment of FY 2013 Funds for the Low Income Home Energy Assistance Program (LIHEAP)

AGENCY: Office of Community Services, ACF, HHS.

ACTION: Notice of determination concerning Federal Fiscal Year (FFY) 2013 funds available for reallotment.

SUMMARY: The Administration for Children and Families (ACF), Office of Community Services (OCS), Division of Energy Assistance (DEA) announces the reallotment of $10,880,543 of FFY 2013 funds for the Low Income Home Energy Assistance Program (LIHEAP).

FOR FURTHER INFORMATION CONTACT: Lauren Christopher, Director, Division of Energy Assistance, Office of Community Services, 370 L'Enfant Promenade SW., Washington, DC 20447 Telephone (202) 401-4870; email: lauren.christopher@acf.hhs.gov.

SUPPLEMENTARY INFORMATION: In accordance with Section 2607(b)(1) of the Low Income Home Energy Assistance Act (the Act), Title XXVI of the Omnibus Budget Reconciliation Act of 1981 (42 U.S.C. 8621, et seq.), as amended, a notice was published in the Federal Register on January 14, 2014 announcing the Secretary's preliminary determination that $2,192,230 of FFY 2013 funds for the Low Income Home Energy Assistance Program (LIHEAP) may be available for reallotment. Subsequent to the publication of this notice, two additional grantees reported $8,688,313 of funds for reallotment. Thus, a total of $10,880,543 was reported by grantees as available for reallotment from FY 2013.

These funds became available from the following grantees:

Reallotment Amounts of FFY 2013 LIHEAP Funds
Grantee name | FY 2013 Reallotment amount
State of Nebraska | $2,180,356.00
State of South Carolina | 7,358,414.00
State of Utah | 1,329,899.00
Delaware Tribe of Indians | 9,793.00
Salt River Pima-Maricopa Indian Community | 2,081.00
Total | 10,880,543.00

Pursuant to the statute cited above, these funds were reallotted on June 17, 2014 to all current LIHEAP grantees by distributing the total reallotted funds under the formula Congress set for FFY 2014 funding. The only exception is that grantees whose allocations would have been less than $25 did not receive an award.

The reallotted funds may be used for any purpose authorized under LIHEAP. Grantees must add these funds to their total LIHEAP funds payable for FFY 2014 for purposes of calculating statutory caps on administrative costs, carryover, assurance 16 activities, and weatherization assistance.

Statutory Authority: 45 CFR 96.81 and 42 U.S.C. 8621 et seq.

Jeannie Chaffin,
Director, Office of Community Services.

[FR Doc. 2014-18672 Filed 8-6-14; 8:45 am]

BILLING CODE 4180-01-P